DEPARTMENT OF DEFENSE

Office of the Secretary of Defense

[DoD-2008-OS-0028]

Privacy Act of 1974; Systems of Records

AGENCY: Defense Finance and Accounting Service, DOD.

ACTION: Notice to Add a New System of Records.

SUMMARY: The Defense Finance and Accounting Service (DFAS) is proposing to add a system of records notice to its inventory of record systems subject to the Privacy Act of 1974, (5 U.S.C. 552a), as amended.

DATES: This action will be effective without further notice on April 16, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on March 5, 2008, to the House Committee on Oversight and Government Reform, the Senate Committee on Governmental Affairs, and the Office of Management and Budget (OMB) pursuant to paragraph 4c of Appendix I to OMB Circular No. A-130, `Federal Agency Responsibilities for Maintaining Records about Individuals,' dated December 12, 2000, 65 FR 239.

Dated: March 10, 2008.
L.M. Bynum,
OSD Federal Register Liaison Officer, Department of Defense.

T-7300

System name:

Defense Disbursing Analysis Reporting System (DDARS).

System location:

Defense Finance and Accounting Service—Indianapolis, 8899 East 56th Street, Indianapolis, OH 46249-0160.

Categories of individuals covered by the system:

Department of Defense civilian employees.

Categories of records in the system:

Individual's name, Social Security Number (SSN), accounting transactions, and travel pay transactions.

Authority for maintenance of the system:

5 U.S.C. 301, Departmental Regulations, 31 U.S.C. 3512, Department of Defense Financial Management Regulation (DoDFMR) 7000.14-R Vols. 6A and 6B, and E.O. 9397 (SSN).

Purpose(s):

The Defense Finance and Accounting Service (DFAS) is proposing to establish an Internet based system designed to allow users a single point of entry to view, reconcile, research and report disbursement and accounting data from a centralized repository. The system will track, control and report disbursement and accounting transactions to various DFAS sites. The system, by automated system interface, file feed, and manual input, will validate appropriation data and route the transactions to the designated accounting operations team to be processed into one of several accounting systems.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

The `DoD Blanket Routine Uses' published at the beginning of the DFAS compilation of systems of records notices apply to this system.

Policies and practices for storing, retrieving, accessing, retaining, and disposing of records in the system:

Storage:

Records are maintained in electronic storage media.

Retrievability:

By individual's name and Social Security Number (SSN).

Safeguards:

Records are maintained in a controlled facility. Physical entry is restricted by the use of locks, guards, and is accessible only to authorized personnel. Access to records is limited to person(s) responsible for servicing the record in performance of their official duties and who are properly screened and cleared for a need-to-know. Access to computerized data is restricted by passwords, which are changed according to agency security policy.

Retention and disposal:

Records are cutoff at the end of the fiscal year and destroyed 6 years and 3 months after cutoff. Records are destroyed by degaussing, shredding or burning.

System manager(s) and address:

Defense Finance and Accounting Service—Columbus, System Management Directorate, 3990 East Broad Street, Building 21, Columbus, OH 43213-1152.

Notification procedure:

Individuals seeking to determine whether information about them are contained in this record system should address written inquiries to the Defense Finance and Accounting Service, Freedom of Information/Privacy Act Program Manager, Corporate Communications and Legislative Liaison, 6760 E. Irvington Place, Denver, CO 80279-8000.

Individuals should furnish full name, Social Security Number (SSN), current address, and telephone number.

Record access procedures:

Individuals seeking access to information about them contained in this system should address written inquiries to Defense Finance and Accounting Service, Freedom of Information/Privacy Act Program Manager, Corporate Communications and Legislative Liaison, 6760 E. Irvington Place, Denver, CO 80279-8000.

Individuals should furnish full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual concerned and DoD Components.

Exemptions claimed for the system:

None.

[FR Doc. E8-5306 Filed 3-14-08; 8:45 am]

BILLING CODE 5001-06-P